DEPARTMENT OF HOMELAND SECURITY

Coast Guard

[Docket No. USCG-2014-0970]

National Maritime Security Advisory Committee; Vacancies

AGENCY: Coast Guard, DHS.

ACTION: Request for applications.

SUMMARY: The Coast Guard seeks applications for membership on the National Maritime Security Advisory Committee. The National Maritime Security Advisory Committee provides advice and makes recommendations on national maritime security matters to the Secretary of Homeland Security via the Commandant of the United States Coast Guard.

DATES: Applicants must submit a cover letter and resume in time to reach Mr. Ryan Owens, the Alternate Designated Federal Officer, no later than December 31, 2014.

ADDRESSES: Send your cover letter and resume indicating the membership category for which you are applying via one of the following methods:

• Email: ryan.f.owens@uscg.mil, Subject line: The National Maritime Security Advisory Committee;

• Fax: 202-372-8353, ATTN: Mr. Ryan Owens, National Maritime Security Maritime Advisory Committee, Alternate Designated Federal Officer; or

• Mail: Send your completed application packets to: Mr. Ryan Owens, National Maritime Security Advisory Committee, Alternate Designated Federal Officer, CG-FAC, U.S. Coast Guard, 2703 Martin Luther King Jr. Avenue SE., Washington, DC 20593, Stop 7501, Washington, DC 20593-7501.

FOR FURTHER INFORMATION CONTACT: Mr. Ryan Owens, Commandant (CG-FAC), National Maritime Security Advisory Committee, Alternate Designated Federal Officer, U.S. Coast Guard Headquarters, 2703 Martin Luther King Jr. Avenue SE., Washington, DC 20593, Stop 7501, Washington, DC 20593-7501, ryan.f.owens@uscg.mil, Phone: 202-372-1108, Fax: 202-372-8353.

SUPPLEMENTARY INFORMATION: The National Maritime Security Advisory Committee is an advisory committee established in accordance with the provisions of the Federal Advisory Committee Act, Title 5 United States Code, Appendix. The National Maritime Security Advisory Committee advises, consults with, and makes recommendations to the Secretary via the Commandant of the Coast Guard on matters relating to national maritime security.

The full Committee normally meets at least two times per fiscal year. Working group meetings and teleconferences are held more frequently, as needed. The Committee may also meet for extraordinary purposes.

We will consider applications for seven positions. Current members are eligible to serve an additional term of office but must re-apply in accordance with this notice.

Applicants with experience in the following sectors of the marine transportation industry with at least five years' practical experience in their field are encouraged to apply:

• at least one individual who represents the interests of the port authorities;

• at least one individual who represents the interests of the facilities' owners or operators;

• at least one individual who represents the interests of the terminal owners or operators;

• at least one individual who represents the interests of the vessel owners or operators;

• at least one individual who represents the interests of the maritime labor organizations;

• at least one individual who represents the interests of State and local governments; and

• at least one individual who represents the interests of the maritime industry.

Due to the nature of National Maritime Security Advisory Committee business, National Maritime Security Advisory Committee members are required to apply for, obtain, and maintain a government national security clearance at the Secret level. The Coast Guard will sponsor and assist candidates with this process. Each member serves for a term of three years. While attending meetings or when otherwise engaged in Committee business, members may be reimbursed for travel and per diem expenses as permitted under applicable Federal travel regulations. However, members will not receive any salary or other compensation for their service on the National Maritime Security Advisory Committee.

The Department of Homeland Security does not discriminate in selection of Committee members on the basis of race, color, religion, sex, national origin, political affiliation, sexual orientation, gender identity, marital status, disability and genetic information, age, membership in an employee organization, or other non-merit factor. The Department of Homeland Security strives to achieve a widely diverse candidate pool for all of its recruitment actions.

To visit our online docket, go to http://www.regulations.gov, enter the docket number for this notice (USCG-2014-0970) in the Search box, and click “Search.” Please do not post your resume on this site. Note that during the vetting process, applicants may be asked to provide date of birth and social security number.

Dated: November 3, 2014.
J. C. Burton,
Captain, U.S. Coast Guard, Director of Inspections and Compliance.

[FR Doc. 2014-26443 Filed 11-6-14; 8:45 am]

BILLING CODE 9110-04-P